FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 16, 2014.

A. Federal Reserve Bank of Dallas (E. Ann Worthy, Vice President) 2200 North Pearl Street, Dallas, Texas 75201-2272:

1. Arthur Temple, III, Lufkin, Texas, individually and as trustee of the Arthur Temple, III Testamentary Trust, Arthur Temple, III Generation Skipping Trust, and Arthur & Mary Temple Trust Part II; Charlotte Ann Temple, St. Helena, California, individually and as trustee of the Charlotte Temple Family Trust, and Charlotte Ann Temple Generation Skipping Trust; Hannah Temple, Austin, Texas; John Hurst, Dripping Springs, Texas; Whitney Temple Grace, West Lake Hills, Texas; Susan Temple, Wilson, Wyoming; Arthur Spencer, St. Helena, California, individually and as trustee of the Charlotte Ann Temple Generation Skipping Trust; Christopher Spencer, St. Helena, California; William H. Spencer, Washington, DC; Katherine Spencer Zelazny, St. Helena, California, as trustee of the Zelazny Family Trust; Wayne Corley, Lufkin, Texas, as trustee of the Charlotte Ann Temple Testamentary Trust and Arthur Temple, III Testamentary Trust; CAT AT Family, L.P, St. Helena, California; to collectively as a group acting in concert to retain voting shares of Diboll State Bancshares, Inc., and thereby indirectly retain voting shares of First Bank and Trust East Texas, both in Diboll, Texas.

2. Legend Bank Employee Stock Ownership Plan and 401(k) Plan (As Amended and Restated Generally Effective as of June 19, 2012), Bowie, Texas; to retain, and to acquire, additional voting shares of Legend Bancorp, Inc., and thereby indirectly retain, and acquire additional voting shares of Legend Bank, N.A., Bowie, Texas.

Board of Governors of the Federal Reserve System, April 28, 2014.
Michael J. Lewandowski,
Associate Secretary of the Board.

[FR Doc. 2014-09957 Filed 4-30-14; 8:45 am]

BILLING CODE 6210-01-P